DEPARTMENT OF HEALTH AND HUMAN SERVICES

Centers for Medicare & Medicaid Services

[Document Identifier: CMS-10282]

Agency Information Collection Activities: Proposed Collection; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information (including each proposed extension or reinstatement of an existing collection of information) and to allow 60 days for public comment on the proposed action. Interested persons are invited to send comments regarding our burden estimates or any other aspect of this collection of information, including the necessity and utility of the proposed information collection for the proper performance of the agency's functions, the accuracy of the estimated burden, ways to enhance the quality, utility, and clarity of the information to be collected, and the use of automated collection techniques or other forms of information technology to minimize the information collection burden.

DATES: Comments must be received by March 30, 2026.

ADDRESSES: When commenting, please reference the document identifier or OMB control number. To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address:

CMS, Office of Strategic Operations and Regulatory Affairs, Division of Regulations Development, Attention: Document Identifier: __/OMB Control Number: __, Room C4-26-05, 7500 Security Boulevard, Baltimore, Maryland 21244-1850.

To obtain copies of a supporting statement and any related forms for the proposed collection(s) summarized in this notice, please access the CMS PRA website by copying and pasting the following web address into your web browser: https://www.cms.gov/Regulations-and-Guidance/Legislation/PaperworkReductionActof1995/PRA-Listing.

FOR FURTHER INFORMATION CONTACT: William N. Parham at (410) 786-4669.

SUPPLEMENTARY INFORMATION:

Contents

This notice sets out a summary of the use and burden associated with the following information collections. More detailed information can be found in each collection's supporting statement and associated materials (see ADDRESSES).

Under the PRA (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA requires federal agencies to publish a 60-day notice in the Federal Register concerning each proposed collection of information, including each proposed extension or reinstatement of an existing collection of information, before submitting the collection to OMB for approval. To comply with this requirement, CMS is publishing this notice.

Information Collections

1. Type of Information Collection Request: Reinstatement with change of a previously approved collection; Title of Information Collection: Conditions of Participation for Comprehensive Outpatient Rehabilitation Facilities (CORFs); Use: The purpose of this package is to request approval from the Office of Management and Budget (OMB) to reinstate, with change, the information collection request. CORFs provide coordinated outpatient diagnostic, therapeutic, and restorative services to rehabilitate individuals who are injured, disabled or ill. Physical, occupational and speech-language therapy may be provided at a single, off-site location. CORFs must provide the following core services:

• Physician consultation and supervision of staff, oversight of treatment plans, and facility administration;

• Physical therapy and social or psychological services.

The information collections (ICs) described herein enable the Centers for Medicare & Medicaid Services (CMS) to ensure CORFs comply with the initial and ongoing Medicare Conditions of Participation (CoPs) specified at Title 42 Code for Regulations (CFR) Section 485, Subpart B. These CoPs help assure a minimal level of patient health and safety in participating facilities and help ensure that Medicare requirements are being met. The only CoP with ICs is 42 CFR 485.66 and the burden estimates are designated as: IC-1a: § 485.66(a)—for Newly Certified CORFs to Develop Utilization Review Plan and IC-1b: § 485.66—for Currently Certified CORFs to Conduct Annual Utilization Reviews.

The previous iteration of this package included an estimated annual burden of 1,504 hours and an annual cost of $103,776. For this reinstatement, the total annual hourly burden is revised to 1,260 hours, with an annual burden cost of $108,190. The 16% decrease in burden hours (from 1,504 to 1,260) is primarily due to the decrease in number of certified CORFs from 188 in the prior iteration to 155 in this reinstatement and the addition of IC-1a for newly certified CORFs to develop a utilization review plan which was unintentionally omitted in prior request but is not a new requirement. Form Number: CMS-10282 (OMB control number: 0938-1091); Frequency: Yearly; Affected Public: Business or other for-profits and Not-for-profit institutions; Number of Respondents: 158; Total Annual Responses: 158; Total Annual Hours: 1,260. (For policy questions regarding this collection contact Claudia Molinar at 410-786-8445.)

William N. Parham, III,
Director, Division of Information Collections and Regulatory Impacts, Office of Strategic Operations and Regulatory Affairs.

[FR Doc. 2026-01562 Filed 1-26-26; 8:45 am]

BILLING CODE 4120-01-P